NUCLEAR REGULATORY COMMISSION

Advisory Committee on the Medical Uses of Isotopes; Meeting Notice

AGENCY: Nuclear Regulatory Commission.

ACTION: Notice of Meeting.

SUMMARY: The U.S. Nuclear Regulatory Commission (NRC) will convene a teleconference meeting of the Advisory Committee on the Medical Uses of Isotopes (ACMUI) on February 15, 2018, to discuss the revised draft report of the ACMUI Nursing Mother Guidelines for the Medical Administration of Radioactive Materials and the revised draft report of the ACMUI Physical Presence Requirements for the Leksell Gamma Knife® Icon™. The Nursing Mother Guidelines report will include the subcommittee's recommendations on the cessation of breastfeeding for various radionuclides. The Physical Presence Requirements report will include the subcommittee's recommendations for the physical presence of authorized users and authorized medical physicists during treatments using the Icon™ unit.

The NRC will also convene another teleconference meeting on March 1, 2018, to discuss the draft report of the Standing ACMUI Training and Experience Subcommittee. This report will include the subcommittee's recommendation for the total number of training and experience hours for authorized users under title 10 Code of Federal Regulations (10 CFR) 35.300 that is necessary for safety. Meeting information, including a copy of the agendas and handouts, will be available at http://www.nrc.gov/reading-rm/doc-collections/acmui/meetings/2018.html. The agenda and handouts may also be obtained by contacting Ms. Sophie Holiday using the information below.

DATES: The teleconference meetings will be held on Thursday, February 15, 2018, 9:00 a.m. to 11:00 a.m. Eastern Time and Thursday, March 1, 2018, 2:00 p.m. to 4:00 p.m. Eastern Time.

Public Participation Any member of the public who wishes to participate in the teleconference should contact Ms. Holiday using the contact information below or may register for the GoToWebinar at https://attendee.gotowebinar.com/register/3949525319846343681 for the February 15, 2018, meeting or at https://attendee.gotowebinar.com/register/2515173918506311939 for the March 1, 2018, meeting.

FOR FURTHER INFORMATION CONTACT: Sophie Holiday, email: Sophie.Holiday@nrc.gov, telephone: (301) 415-7865.

Conduct of the Meeting

Dr. Philip Alderson, ACMUI Chairman, will preside over the meeting. Dr. Alderson will conduct the meeting in a manner that will facilitate the orderly conduct of business. The following procedures apply to public participation in the meeting:

1. Persons who wish to provide a written statement should submit an electronic copy to Ms. Holiday at the contact information listed above. All submittals must be received by February 12, 2018, and February 26, 2018, three business days prior to the February 15, 2018, meeting and the March 1, 2018, meeting, and must pertain to the topic(s) on the agenda for the meeting.

2. Questions and comments from members of the public will be permitted during the meetings, at the discretion of the Chairman.

3. The draft transcript and meeting summary will be available on ACMUI's website http://www.nrc.gov/reading-rm/doc-collections/acmui/meetings/2018.html on or about March 30, 2018, for the February 15, 2018, meeting and April 12, 2018, for the March 1, 2018, meeting.

This meeting will be held in accordance with the Atomic Energy Act of 1954, as amended (primarily Section 161a); the Federal Advisory Committee Act (5 U.S.C. App); and the Commission's regulations in 10 CFR part 7.

Dated at Rockville, Maryland, this 18th day of January, 2018.
For the Nuclear Regulatory Commission.
Russell E. Chazell,
Advisory Committee Management Officer.

[FR Doc. 2018-01139 Filed 1-22-18; 8:45 am]

BILLING CODE 7590-01-P